FEDERAL MARITIME COMMISSION

Sunshine Act Meeting

TIME AND DATE: 10 a.m.—December 17, 2002

PLACE: 800 North Capitol Street, NW., First Floor Hearing Room, Washington, DC.

STATUS: Closed.

MATTERS TO BE CONSIDERED:

1. Docket No. 98-14—Shipping Restrictions, Requirements and Practices of the People's Republic of China

2. Petition No. P2-02—Petition of the South Florida NVOCC-NAOCC Association, Inc. for an Investigation of the Service Contracting and Rating Practices of the Caribbean Shipowners Association

3. Docket No. 02-02—Canaveral Port Authority—Possible Violations of Section 10(b) (10), Unreasonable Refusal to Deal or Negotiate

CONTACT PERSON FOR MORE INFORMATION: Bryant L. VanBrakle, Secretary, (202) 523-5725.

Bryant L. VanBrakle,
Secretary.

[FR Doc. 02-31403 Filed 12-9-02; 8:59 pm]

BILLING CODE 6730-01-M